FEDERAL MINE SAFETY AND HEALTH REVIEW COMMISSION

Sunshine Act; Notice

November 4, 2008.

Time and Date: 10 a.m., Thursday, November 20, 2008.

Place: The Richard V. Backley Hearing Room, 9th Floor, 601 New Jersey Avenue, NW., Washington, DC.

Status: Open.

Matters to be Considered: The Commission will hear oral argument in the matter Secretary of Labor on behalf of Lawrence L. Pendley v. Highland Mining Company, LLC, Docket Nos. KENT 2007-383-D and KENT 2007-506-D. (Issues include whether the Administrative Law Judge properly concluded that the operator did not discriminate against the miner in question under section 105(c) of the Federal Mine Safety and Health Act, 30 U.S.C. 815(c).)

Any person attending this oral argument who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Jean H. Ellen,
Chief Docket Clerk.

[FR Doc. E8-27214 Filed 11-12-08; 4:15 pm]

BILLING CODE 6735-01-P